DEPARTMENT OF TRANSPORTATION

Federal Motor Carrier Safety Administration

[Docket No. FMCSA-2015-0394]

Driver Qualification Files: Application for Exemption; Atlantic and Pacific Freightways, Inc.

AGENCY: Federal Motor Carrier Safety Administration (FMCSA), DOT.

ACTION: Notice of withdrawal of application for exemption.

SUMMARY: FMCSA announces that it has accepted the request of Atlantic and Pacific Freightways, Inc. (A&P) to withdraw its application for exemption from the Agency's regulation requiring motor carriers to obtain updated medical certification information when a driver holding a commercial driver's license (CDL) undergoes a new driver medical examination (49 CFR 391.51(b)(7)(ii)). A&P no longer needs the exemption.

FOR FURTHER INFORMATION CONTACT: Mr. Robert F. Schultz, Driver and Carrier Operations Division; Office of Carrier, Driver and Vehicle Safety Standards; Telephone: 202-366-4325, Email: MCPSD@dot.gov, Federal Motor Carrier Safety Administration, 1200 New Jersey Avenue SE., Washington, DC 20590-0001.

SUPPLEMENTARY INFORMATION:

Background

Applicant A&P is a Vancouver, Washington motor carrier that employs CDL-drivers to transport goods in interstate commerce. A&P applied for exemption from 49 CFR 391.51(b)(7)(ii) because it was experiencing difficulty obtaining updated medical certification information on its CDL drivers as required by the regulation. On November 27, 2015, FMCSA published a Federal Register notice of A&P's application for exemption and asked for public comment (80 FR 74202). No comments were received. On January 28, 2016, A&P asked to withdraw its application for exemption because it is now able to receive all the information required by 49 CFR 391.51(b)(7)(ii). The Agency accordingly accepts A&P's request to withdraw its application and closes the docket of this matter.

Issued on: February 26, 2016.
Larry W. Minor,
Associate Administrator for Policy.

[FR Doc. 2016-05244 Filed 3-8-16; 8:45 am]

BILLING CODE 4910-EX-P